DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before December 1, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2014-031-C and M-2014-032-C.

Petitioner: Sunrise Coal LLC, 12661 Agricare Road, Oaktown, Indiana 47561.

Mines: Oaktown Fuels Mine No. 1, MSHA I.D. No. 12-02394, and Oaktown Fuels Mine No. 2, MSHA I.D. No. 12-02418, both located in Knox County, Indiana.

Regulation Affected: 30 CFR 75.1700 (Oil and gas wells).

Modification Request: The petitioner requests a modification of the existing standard to mine through or near (whenever the safety barrier diameter is reduced to a distance less than the District Manager (DM) would approve pursuant to 30 CFR 75.1700) plugged oil or gas wells penetrating the Indiana V coal seam.

a. The petitioner proposes to use the following procedures when cleaning out and preparing oil and gas wells prior to plugging:

(1) A diligent effort will be made to clean the borehole to the original total depth. If this depth cannot be reached, the borehole will be cleaned out to a depth which would permit the placement of at least 200 feet of expanding cement below the base of the lowest mineable coal bed.

(2) When cleaning the borehole, a diligent effort will be made to remove all the casing in the borehole. If it is not possible to remove all of the casing, the casing that remains will be perforated or ripped at intervals spaced close enough to permit expanding cement slurry to infiltrate the annulus between the casing and the borehole wall at a distance of at least 200 feet below the base of the lowest mineable coal bed.

(3) If the cleaned-out borehole produces gas, a mechanical bridge plug will be placed in the borehole in a competent stratum at least 200 feet below the base of the lowest mineable coal bed, but above the top of the uppermost hydrocarbon-producing stratum. If it not possible to set a mechanical bridge plug, a substantial brush plug may be used.

(4) A suit of logs will be made consisting of a caliper survey, directional deviation survey, and log(s) suitable for determining the top and bottom of the minable coal beds and potential hydrocarbon-producing strata and the location for a bridge plug.

(5) Properly place mechanical bridge plugs or a suitable brush plug to isolate the hydrocarbon-producing stratum from the expanding cement plug, if the upper-most hydrocarbon-producing stratum is within 200 feet of the base of the lowest mineable coal bed. Nevertheless, place a minimum of 200 feet of expanding cement below the lowest mineable coal bed

(6) The wellbore will be completely filled and circulated with a gel that inhibits any flow of gas, supports the walls of the borehole, and increases the density of the expanding cement. This gel will be pumped through open-end tubing run to a point approximately 20 feet above the bottom of the cleaned out area of the borehole or bridge plug.

b. The petitioner proposes to use the following procedures for plugging oil or gas wells to the surface:

(1) A cement plug will be set in the wellbore by pumping an expanding cement slurry down the tubing to displace the gel and fill the borehole to the surface. (As an alternative, the cement slurry may be pumped down the tubing so that the borehole is filled with Portland cement or a Portland cement-fly ash mixture from a point approximately 100 feet above the top of the lowest minable coal bed to the surface with an expanding cement plug extending from at least 200 feet below the lowest minable coal bed to the bottom of the Portland cement). There will be at least 200 feet of expanding cement below the base of the lowest minable coal bed.

(2) A surface casing, small quantity of steel turning, or other small magnetic particles will be embedded in the top of the expandable cement near the surface to serve as a permanent magnetic monument of the borehole. As an alternative, a steel rod may be driven into the ground next to the borehole.

c. The petitioner proposes to use the following procedures for plugging oil and gas wells using the vent pipe method:

(1) Run a 4½-inch or larger vent pipe into the wellbore to a depth of 100 feet below the lowest minable coal bed and swedged to a smaller diameter pipe, if desired, which will extend to a point approximately 20 feet above the bottom of the cleaned out area of the borehole or bridge plug.

(2) Set a cement plug in the wellbore by pumping an expanding cement slurry, Portland cement, or a Portland cement-fly ash mixture down the tubing to displace the gel so the borehole is filled with cement. The borehole and the vent pipe will be filled with expanding cement for a minimum of 200 feet below the base of the lowest minable coal bed. The top of the expanding cement will extend upward to a point approximately 100-feet above the top of the highest minable coal bed.

(3) Evacuate all fluid from the vent pipe to facilitate testing for gasses. The expanding cement will not be disturbed during the evacuation of fluid.

(4) Protect the vent pipe to prevent liquids or solids from entering the wellbore but ready access will be permitted to the full internal diameter of the vent pipe when necessary.

d. The petitioner proposes to use the following procedures for plugging oil or gas wells for use of degasification boreholes:

(1) Set a cement plug in the wellbore by pumping an expanding cement slurry down the tubing to displace the gel and provide at least 200 feet of expanding cement below the lowest minable coal bed. The top of the expanding cement will extend upward to a point above the top of the coal bed being mined. The distance will be based on the average height of the roof strata breakage for the mine.

(2) To facilitate methane drainage, degasification casing of suitable diameter, slotted or perforated throughout its lower 150 feet to 200 feet will be set in the borehole to a point 10 feet to 30 feet above the top of the expanding cement.

(3) Cement the annulus between the degasification casing and the borehole wall from a point immediately above the slots or perforations to the surface.

(4) Clean out the degasification casing for its total length.

(5) Fit the top of the degasification casing with a wellhead equipped as required by the District Manager (DM). Such equipment may include check valves, shut-in valves, sampling ports, flame arrestor equipment, and security fencing.

e. The petitioner proposes to use the following procedures whenever the safety barrier diameter is reduced to less than the DM would approve pursuant to 30 CFR 75.1700 or proceeding with an intent to cut through a plugged well:

(1) Notify the DM or designee prior to reducing the safety barrier to a distance less than the DM would approve pursuant to 30 CFR 75.1700 or proceeding with an intent to cut through a plugged well.

(2) The DM or designee may conduct a conference prior to mining through any plugged well to review and approve the specific procedures for mining through the well. Representatives of the operator, representative of the miners, and the appropriate State agency will be informed within a reasonable time prior to the conference to be given opportunity to attend and participate. This meeting may be called by the operator.

(3) Mining in close proximity to or through a plugged well will be done on a shift approved by the DM or designee.

(4) Notify the DM or designee, representative of the miners, and the appropriate State agency in sufficient time for them to have a representative present prior to mining-through operation.

(5) Install drivage sights at the last open crosscut near the place to be mined to ensure intersection of the well. The drivage sights will not be more than 50 feet from the well.

(6) Firefighting equipment, including fire extinguishers, rock dust, and sufficient fire hose to reach the working face area of the mining-through will be available and operable during each well mine-through. Locate the fire hose in the last open crosscut of the entry or room. All fire hoses will be ready for operation during the mining-through.

(7) Keep available at the last open crosscut a sufficient supply of roof support and ventilation materials. In addition, keep emergency plugs available in the immediate area of the mine-through.

(8) Maintain the quantity of air required by the approved mine ventilation plan behind the line brattice and in the last open cross cut during mining-through.

(9) Check equipment for permissibility and service it on the shift prior to mining through the well and maintain the water line to the section tail with a sufficient amount of fire hose to reach the farthest point of penetration on the section.

(10) Calibrate the methane monitor on the continuous mining machine prior to mining through the well.

(11) When mining is in progress, test methane levels with a hand-held methane detector at least every 10 minutes from the time that the continuous mining machine is within 30 feet of the well until the well is intersected and immediately prior to mining-through. No individual is allowed on the return side during the actual cutting process until the mining-through has been completed and the area examined and declared safe by a certified person.

(12) Keep the working place free from accumulations of coal dust and coal spillages, and place rock dust on the roof, rib, and floor to within 20 feet of the face when mining through the well on the shifts during which the cut-through will occur.

(13) Deenergize all equipment when the wellbore is intersected and thoroughly examine the place and determine it safe before resuming mining. Any casing will be removed and no open flame is permitted in the area until adequate ventilation has been established around the wellbore.

(14) After a well has been intersected and the working place determined safe, continue mining inby the well at a distance sufficient to permit adequate ventilation around the area of the wellbore.

(15) No person will be permitted in the area of the mining-through operation except those actually engaged in the mining operation, company personnel, representative of the miners, personnel from MSHA, and personnel from the appropriate State agency.

(16) A certified official will directly supervise the mining-through operation and only the certified official in charge will issue instructions concerning the mining-through operation.

(17) MSHA personnel may interrupt or halt the mining through operation when it is necessary for the safety of the miners.

(18) The operator will file a plugged affidavit setting forth the persons who participated in the work, a description of the plugged work, and a certification by the operator that the well has been plugged.

(19) Within 60 days after this petition becomes final, the petitioner will submit proposed revisions for its approved part 48 training plan to the DM. The revisions will include initial and refresher training regarding the compliance with the terms and conditions of this petition for modification.

The petitioner asserts that the proposed alternative method will at all times guarantee no less than the same measure or protection afforded by the existing standard.

Docket Number: M-2014-033-C.

Petitioner: Emerald Processing, LLC, 1144 Market Street, Suite 400, Wheeling, West Virginia 26003.

Mine: Peerless Rachel Mine, MSHA I.D. No. 46-09258, 4449 Left Fork of Joe's Creek, Comfort, West Virginia 25049, located in Boone County, West Virginia.

Regulation Affected: 30 CFR 75.1909(b)(6) (Nonpermissible diesel-powered equipment design and performance requirements).

Modification Request: The petitioner requests a modification of the existing standard to permit the use of the Getman Diesel Grader with rear wheel brakes at the Peerless Rachel Mine. The petitioner states that:

(1) The maximum speed of the diesel grader will be limited to 10 miles per hour by physically blocking the higher gear ratios that provide for speeds exceeding 10 miles per hour.

(2) The miners that operate the grader will be trained to recognize the gear blocking device and its proper application and requirements.

(3) The miners who operate the grader will be trained to drop the grader blade to provide additional stopping capability in emergencies.

(4) The low speeds coupled with the availability of the grader blade for stopping in emergencies will provide for the appropriate stopping ability. The rear wheel brakes will be maintained in proper working condition at all times.

(5) All other applicable requirements of the Federal Mine Safety and Health Act of 1977 and its corresponding regulations for the Getman grader will apply.

(6) This petition is limited to the Getman diesel grader, Serial No. 6732.

(7) Within 60 days after this petition becomes final, the petitioner will submit to the District Manager proposed revisions for the approved part 48 training plan that will specify initial and refresher training consistent with the terms and conditions stated in this petition.

The petitioner asserts that the proposed alternative method will guarantee no less than the same measure of protection to all miners as would be provided by the existing standard.

Docket Number: M-2014-034-C.

Petitioner: Lone Mountain Processing, Inc., Drawer C, St. Charles, Virginia 24282.

Mine: Clover Fork Mine, MSHA I.D. No. 15-18647, located in Harlan County, Kentucky.

Regulation Affected: 30 CFR 75.310(a)(3) (Installation of main mine fans).

Modification Request: The petitioner requests a modification of the existing standard to permit the use of fan signal monitoring provided by the Communication Center at Huff Creek Mine as an alternative to having personnel on the surface at the mine to monitor fan operation. In support of the request, the petitioner states that:

(1) The Clover Fork fan can be monitored for operation at the Huff Creek Communication Center.

(2) Huff Creek Mine Communication Center personnel are present at all times when miners are underground.

(3) If there is an interruption in the fan operation, a notification from the Huff Creek Communication Center can be given to the miners underground at Clover Fork mine.

(4) Fan alarm signal monitoring by the Huff Creek Mine Communication Center is accomplished in two ways, first by fan signal connection to mine phones, and by a fiber optic line that is running from Clover Fork mine to the Huff Creek mine.

(5) The fiber optic line is connected to the CO monitoring and tracking system computer at Clover Fork mine which receives an input from the fan alarm signal device. The fiber optic line terminates at a computer in the Communication Center and provides both audible and visual notification if the Clover Fork fan stops operating.

(6) Voice communication to the Clover Fork mine is accomplished by three separate connections and also by wireless tracking system radios. Primary communication is by a mine phone line running through Huff Creek mine along A-Main entries to the borehole connection between the mines.

(7) Backup to the mine phone system is an overland copper pair for the emergency phone system provided by the land line telephone company. A third way of communication to the mine is by land line telephone to the mine office. Tracking system radios provide a fourth means of communication.

(8) In the event that the monitoring system for the fan should fail at the Huff Creek Mine Communication Center, Clover Fork mine management will provide personnel to monitor the fan operation at the mine site until repairs are made to the Huff Creek Mine Communication Center system.

The petitioner asserts that the proposed alternative method provides the same level of protection to all miners as provided by the existing standard.

Dated: October 24, 2014.
Sheila McConnell,
Acting Director, Office of Standards, Regulations and Variances.

[FR Doc. 2014-25773 Filed 10-29-14; 8:45 am]

BILLING CODE 4510-43-P